INTERNATIONAL TRADE COMMISSION

[USITC SE-07-015]

Government in the Sunshine Act Meeting Notice

Agency Holding the Meeting: United States International Trade Commission

Time and Date: August 20, 2007 at 2 p.m.

Place: Room 101, 500 E. Street SW., Washington, DC 20436, Telephone: (202) 205-2000.

Status: Open to the public.

Matters to be Considered: 1. Agenda for Future Meetings: None.

2. Minutes.

3. Ratification List.

4. Inv. Nos. 701-TA-448 and 731-TA-1117 (Preliminary)(Certain Off-the-Road Tires from China)—briefing and vote. (The Commission is currently scheduled to transmit its determination and Commissioners' opinions to the Secretary of Commerce on or before August 27, 2007).

5. Outstanding Action Jackets: None.

In accordance with Commission policy, subject matter listed above, not disposed of at the scheduled meeting, may be carried over to the agenda of the following meeting.

By Order of the Commission.
Issued: August 3, 2007.
William R. Bishop,
Hearings and Meetings Coordinator.

[FR Doc. E7-15503 Filed 8-7-07; 8:45 am]

BILLING CODE 7020-02-P